DEPARTMENT OF AGRICULTURE

Forest Service

Shasta County Resource Advisory Committee

AGENCY: Forest Service, USDA.

ACTION: Notice of meeting.

SUMMARY: The Shasta County Resource Advisory Committee (RAC) will meet at the USDA Service Center in Redding, California, on January 29, 2009 from 8:30 a.m. to 12 noon. The purpose of this meeting is to discuss proposed projects under Title II of the Secure Rural Schools and Community Self-Determination Act of 2008.

DATES: Thursday, January 29, 2009.

ADDRESSES: The meeting will be held at the USDA Service Center, 3644 Avtech Parkway, Redding, California 96002.

FOR FURTHER INFORMATION CONTACT: Resource Advisory Committee Coordinator John Heibel at (530) 226-2524 or jheibel@fs.fed.us.

SUPPLEMENTARY INFORMATION: The meeting is open to the public. Public input sessions will be provided and individuals will have the opportunity to address the Shasta County Resource Advisory Committee.

Dated: December 1, 2008.
Scott G. Armentrout,
Deputy Forest Supervisor, Shasta-Trinity National Forest.

[FR Doc. E8-28917 Filed 12-8-08; 8:45 am]

BILLING CODE 3410-11-M